NUCLEAR REGULATORY COMMISSION

10 CFR Parts 2, 19, 20, 21, 25, 26, 30, 31, 32, 34, 35, 36, 37, 39, 40, 50, 51, 52, 54, 55, 60, 61, 62, 63, 70, 71, 72, 73, 74, 75, 76, 81, 95, 110, 140, 150, 160, 170, and 171

[NRC-2025-0479]

RIN 3150-AL39

The Sunset Rule

AGENCY: Nuclear Regulatory Commission.

ACTION: Direct final rule.

SUMMARY: The U.S. Nuclear Regulatory Commission (NRC) is amending its regulations to insert a conditional sunset date into certain regulations in response to Executive Order (E.O.) 14270, “Zero-Based Regulatory Budgeting to Unleash American Energy.”

DATES: The final rule is effective January 8, 2026, unless significant adverse comments are received by January 2, 2026. If the direct final rule is withdrawn as a result of such comments, timely notice of the withdrawal will be published in the Federal Register. Comments received on this direct final rule will also be considered to be comments on a companion proposed rule published in the Proposed Rules section of this issue of the Federal Register.

ADDRESSES: You may submit comments by any of the following methods; however, the NRC encourages electronic comment submission through the Federal rulemaking website (please choose only one of the ways listed):

• Federal Rulemaking website: Electronically at https://www.regulations.gov. Follow the “Submit a comment” instructions. If you are reading this document on federalregister.gov, you may use the green “SUBMIT A PUBLIC COMMENT” button beneath this rulemaking's title to submit a comment to the regulations.gov docket. Address questions about NRC dockets to Helen Chang; telephone: 301-415-3228; email: Helen.Chang@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff. Mailed comments must be received by the close of the comment period.

• Hand deliver comments to: 11555 Rockville Pike, Rockville, Maryland 20852, between 7:30 a.m. and 4:15 p.m. eastern time, Federal workdays; telephone: 301-415-1677.

Do not include any personally identifiable information (such as name, address, or other contact information) or confidential business information that you do not want publicly disclosed. All comments are public records; they are publicly displayed exactly as received, and will not be deleted, modified, or redacted. Comments may be submitted anonymously.

Follow the search instructions on https://www.regulations.gov to view public comments.

You can read a plain language description of this rule at https://www.regulations.gov/docket/NRC-2025-0479. For additional direction on obtaining information and submitting comments, see “Obtaining Information and Submitting Comments” in the SUPPLEMENTARY INFORMATION section of this document.

FOR FURTHER INFORMATION CONTACT: Maxwell C. Smith, U.S. Nuclear Regulatory Commission, Washington, DC 20555-0001; telephone: 301-415-1856, email: Maxwell.Smith@nrc.gov.

SUPPLEMENTARY INFORMATION:

Table of Contents

I. Obtaining Information and Submitting Comments

II. Rulemaking Procedure

III. Background

IV. Discussion

V. Regulatory Flexibility Certification

VI. Regulatory Analysis

VII. Backfitting and Issue Finality

VIII. Plain Writing

IX. National Environmental Policy Act

X. Paperwork Reduction Act Statement

XI. Regulatory Planning and Review

XII. Congressional Review Act

I. Obtaining Information and Submitting Comments

A. Obtaining Information

Please refer to Docket ID NRC-2025-0479 when contacting the NRC about the availability of information for this action. You may obtain publicly available information related to this action by any of the following methods:

• Federal Rulemaking Website: Go to https://www.regulations.gov and search for Docket ID NRC-2025-0479.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

B. Submitting Comments

The NRC encourages timely electronic comment submission through the Federal Rulemaking website (https://www.regulations.gov). Please include Docket ID NRC-2025-0479 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Rulemaking Procedure

The NRC uses the “direct final rule procedure” for rulemaking when the NRC anticipates the rule is unlikely to attract significant adverse comment because the rule is non-controversial. As explained further, this rulemaking would add a “sunsetting clause” to certain regulations many of which are outdated, seldomly used, or duplicative with other regulations. Moreover, the NRC will provide the public with an opportunity to provide additional information on whether the sunsetting provision should be extended for these provisions at a future time as well as provide Tribal consultation opportunities in compliance with NRC's Tribal Policy Statement (82 FR 2402; January 9, 2017). Therefore, because the NRC does not anticipate significant public comments on this rulemaking and considers it to be noncontroversial, the NRC is using the “direct final rule procedure” for this rule. The amendments are effective on January 8, 2026. However, if the NRC receives significant adverse comments on this direct final rule by January 2, 2026, then the NRC will publish a document that withdraws this action and will address the comments received in a subsequent final rule as a response to the companion proposed rule published in the Proposed Rules section of this issue of the Federal Register or take other action as appropriate. Absent significant modifications to the proposed revisions requiring republication, the NRC will not initiate a second comment period on this action.

A significant adverse comment is a comment where the commenter explains why the rule would be inappropriate, including challenges to the rule's underlying premise or approach, or would be ineffective or unacceptable without a change.¹ A comment is adverse and significant if:

¹ Administrative Conference of the United States, Adoption of Recommendations, (60 FR 43108-43111; August 18, 1995).

(1) The comment opposes the rule and provides a reason sufficient to require a substantive response in a notice-and-comment process. For example, a substantive response is required when:

(a) The comment causes the NRC to reevaluate (or reconsider) its position or conduct additional analysis;

(b) The comment raises an issue serious enough to warrant a substantive response to clarify or complete the record; or

(c) The comment raises a relevant issue that was not previously addressed or considered by the NRC.

(2) The comment proposes a change or an addition to the rule, and it is apparent that the rule would be ineffective or unacceptable without incorporation of the change or addition.

(3) The comment causes the NRC to make a change (other than editorial) to the rule.

For detailed instructions on filing comments, please see the ADDRESSES section of this document.

III. Background

Executive Order (E.O.) 14270, “Zero-Based Regulatory Budgeting to Unleash American Energy,” directs the NRC to issue a rule inserting a conditional sunset date into each of its regulations that are in effect as of the date of the E.O. (90 FR 15643; April 9, 2025) and were issued in whole or in part pursuant to the following statutes, as amended: the Atomic Energy Act of 1954, the Energy Reorganization Act of 1974, and the Nuclear Waste Policy Act of 1982. The conditional sunset date for covered regulations is to be one year after the effective date of the sunset rule. The E.O. directs the NRC to issue a sunset rule “to the extent consistent with applicable law” and provides that the E.O. does not apply to “regulatory permitting regimes authorized by statute.” For purposes of implementing this E.O., regulations that provide standards and requirements for NRC license and permit holders or applicants constitute the NRC's “regulatory permitting regime.” Thus, the scope of this rulemaking is generally limited to those regulations that do not fit into one or more of the following three categories: (1) regulations that could not be sunset “consistent with applicable law” because they are necessary to fulfill the NRC's statutory mandate to provide for the common defense and security and to protect public health and safety; (2) regulations that are part of the NRC's “regulatory permitting regimes authorized by statute”; or (3) regulations that do not implement one of the three NRC-specific statutes identified in the E.O. (i.e., regulations that implement government-wide requirements such as the Freedom of Information Act of 1969). The vast majority of the NRC's regulations fit into one of these three categories. Nonetheless, the NRC identified several regulations that although they fall into one or more of these categories and are therefore outside the scope of the E.O., they are not being used or no longer serve their original purpose. As explained in section IV, “Discussion,” of this document, the NRC will add a sunsetting provision to those regulations. Importantly, the NRC is continuing its regulatory reform efforts through the rulemaking activities directed by E.O. 14300, “Ordering the Reform of the Nuclear Regulation Commission.”

As stated in E.O. 14270, the sunsetting provision will state a conditional sunset date that is one year after the effective date of this rule and provide that the NRC will offer the public an opportunity to comment on the costs and benefits of the regulations to be conditionally sunset before that effective date. The NRC will issue a separate notice describing the comment opportunity after this rule is effective. Following the sunset date, the NRC will consider sunset regulations to no longer be effective, will not seek to enforce sunset regulations, and will remove the regulation from the Code of Federal Regulations and make necessary conforming changes. However, following the opportunity for the public to comment on the sunset rule's costs and benefits, the NRC may extend the conditional sunsetting date if warranted and may do so as many times as appropriate.

IV. Discussion

The NRC will include the sunsetting provision in the following regulations for the reasons explained below.

The President has directed the NRC to issue this proposed zero-based regulating rule. Section 4(a) of E.O. 14270 states that “each of the Covered Agencies shall issue a sunset rule,” and further specifies the terms of that rule. Accordingly, the NRC lacks any discretion over whether to undertake this sunsetting rule. The President's direction provides an independent, and sufficient, justification for this proposed rulemaking. However, the Executive Order does not direct the NRC to rescind or reissue any particular regulation. The NRC retains its full authority to issue and repeal regulations under the three relevant statutes and their amendments. The President has directed only the manner in which the NRC is to review and issue the relevant regulations.

Moreover, as reflected by the Nuclear Energy Innovation and Modernization Act (NEIMA) (Pub. L. 115-439), the Accelerating Deployment of Versatile, Advanced Nuclear for Clean Energy Act of 2024 (Pub. L. 118-67), and E.O. 14300, nuclear technology is quickly evolving. The sunsetting provisions in this rulemaking will enable the NRC's regulatory infrastructure to keep pace with those developments by requiring the agency to periodically reevaluate its regulations and remove those that are no longer necessary. Thus, outside of the directions in E.O. 14270, the NRC concludes that adopting the proposed sunset rule is warranted and based on its independent policy judgment, as further explained in greater detail, will add to the efficacy of its regulatory oversight by adding a mechanism to periodically streamline the NRC's regulatory infrastructure.

Future Rulemakings

Executive Order 14270 also directs the NRC to include a sunsetting provision in future rulemakings that would be covered by the E.O. Therefore, the NRC would also add a new provision to 10 CFR 2.807, “Effective date,” specifying the circumstances in which regulations adopted by the NRC after the effective date of this rulemaking would include a sunsetting provision.

Early Review of Site Suitability Issues

Subpart F to part 2, “Additional Procedures Applicable to Early Partial Decisions on Site Suitability Issues in Connection With an Application for a Construction Permit or Combined License To Construct Certain Utilization Facilities; and Advance Issuance of Limited Work Authorizations,” of title 10 of the Code of Federal Regulations (10 CFR), provides special procedures for a hearing and the issuance of a partial decision on site suitability matters for which an applicant seeks early resolution. While these provisions constitute part of the NRC's permitting regime authorized by statute, they are no longer needed. Despite being updated to reflect the amendments made in the final rule to 10 CFR part 52, “Licenses, Certifications, and Approvals for Nuclear Power Plants” (72 FR 49352; August 28, 2007), these procedures were last used in the 1970s.² Moreover, industry stakeholders do not appear to have any immediate plans to use them. In the preamble to the proposed rule, “Risk-Informed, Technology-Inclusive Regulatory Framework for Advanced Reactors” (89 FR 86918; October 31, 2024), the staff observed, “[i]nteractions with external stakeholders during the development of the proposed rule did not identify significant interest in or need for including the process for early review of site suitability issues in part 53[,”Risk-Informed, Technology-Inclusive Regulatory Framework for Commercial Nuclear Plants”].” A sunset date will allow these unused regulations to roll off the books. At the same time, if evidence emerges in the interim indicating a continued need for these regulations, the agency can extend the sunset date as appropriate.

² E.g., Commonwealth Edison (Carroll County Site), ALAB-601, 12 NRC 18, 27 (1980).

Oral Hearings

Subpart N of 10 CFR part 2, “Expedited Proceedings with Oral Hearings,” is a specialized hearing track that contains the NRC's “fast track” hearing procedures intended to provide for the expeditious resolution of issues in cases where contentions are few and not complex. These procedures can be used if all parties agree (see 10 CFR 2.310, “Selection of hearing procedures”). They have not been used to date. While these provisions constitute part of the NRC's permitting regime authorized by statute, they are no longer needed. A sunset date will allow these unused regulations to roll off the books. At the same time, if evidence emerges in the interim indicating a continued need for these regulations, the agency can extend the sunset date as appropriate.

Legislative Hearings

Subpart O of 10 CFR part 2, “Legislative Hearings,” provides for procedures to be used if the Commission decides to hold legislative hearings for design certification rulemakings where the Commission, at its discretion, determined to hold a hearing under 10 CFR 52.51(b). The procedures also can be used at the Commission's discretion in developing a record to assist in resolving a waiver petition filed under paragraph (b) of 10 CFR 2.335, “Consideration of Commission rules and regulations in adjudicatory proceedings.” Subpart O procedures have never been used. While these provisions constitute part of the NRC's permitting regime authorized by statute, they are no longer needed. A sunset date will allow these unused regulations to roll off the books. At the same time, if evidence emerges in the interim indicating a continued need for these regulations, the agency can extend the sunset date as appropriate.

Fitness-for-Duty Licensee Testing Facilities

Subpart F of 10 CFR part 26, “Licensee Testing Facilities,” provides requirements for fitness-for-duty testing facilities. No licensee fitness-for-duty programs currently use subpart F licensee testing facilities because these facilities are no longer cost-beneficial for licensees. The marketplace offers a more efficient and cost-effective alternative: submitting specimens for testing to a laboratory that is certified to meet the standards of the U.S. Department of Health and Human Services, “Mandatory Guidelines for Federal Workplace Drug Testing Programs” (88 FR 70768; October 12, 2023). While these provisions constitute part of the NRC's permitting regime authorized by statute and at one time played a role in assuring adequate protection of public health and safety, they are no longer needed. A sunset date will allow these outdated regulations to roll off the books. At the same time, if evidence emerges in the interim indicating a continued need for these regulations, the agency can extend the sunset date as appropriate.

Duplicative Regulations in 10 CFR Parts 31, 32, 34, 35, 36, and 39

The regulations at 10 CFR 31.21, “Maintenance of records,” 10 CFR 32.3, “Maintenance of records,” 10 CFR 34.87, “Form of records,” and 10 CFR 35.5, “Maintenance of records,” are duplicative of 10 CFR 30.51, “Records,” which covers 10 CFR part 31, “General Domestic Licenses for Byproduct Material,” 10 CFR part 32, “Specific Domestic Licenses to Manufacture or Transfer Certain Items Containing Byproduct Material,” 10 CFR part 34, “Licenses for Industrial Radiography and Radiation Safety Requirements for Industrial Radiographic Operations,” and 10 CFR part 35, “Medical Use of Byproduct Material.” In addition, 10 CFR 34.111, “Applications for exemptions,” 10 CFR 35.19, “Specific exemptions,” paragraph (a) of 10 CFR 36.17, “Applications for exemptions,” and 10 CFR 39.91, “Applications for exemptions,” are duplicative of 10 CFR 30.11, “Specific exemptions,” which covers 10 CFR part 34, 10 CFR part 35, 10 CFR part 36, “Licenses and Radiation Safety Requirements for Irradiators,” and 10 CFR part 39, “Licenses and Radiation Safety Requirements for Well Logging.” While these provisions constitute part of the NRC's permitting regime authorized by statute and at one time played a role in assuring adequate protection of public health and safety, they are no longer needed. A sunset date will allow these duplicative regulations to roll off the books. At the same time, if evidence emerges in the interim indicating a continued need for these regulations, the agency can extend the sunset date as appropriate.

The Aircraft Impact Assessment Rule

The regulations in 10 CFR 50.150, “Aircraft impact assessment,” are safety enhancements that are not necessary for the NRC to meet its statutory mission under the Atomic Energy Act of 1954 to provide reasonable assurance of adequate protection from radiological hazards. When the rule was promulgated, the NRC quantified the costs of the rule but did not quantify the benefits and concluded that the key qualitative benefit of the rule was an “improvement in knowledge” of how a new reactor would address beyond-design-basis hazards, such as a deliberate large aircraft impact. At the time, the NRC concluded that qualitative benefits outweighed the cost of the rule. However, if reconsidered today, the cost of implementation would not be justified by the increase in safety for future reactors. Other more recently developed regulations (i.e., 10 CFR 50.155, “Mitigation of beyond-design-basis events,” and proposed 10 CFR part 53) provide alternative approaches to understand how newly licensed plants would address those beyond-design-basis hazards. Because the analyses required by this regulation are incorporated into plants' licensing bases and are now required by other more comprehensive regulations, sunsetting this provision will not decrease safety at any operating facility. Thus, while this provision constituted part of the NRC's permitting regime authorized by statute, it is no longer needed. A sunset date will allow this outdated and duplicative regulation to roll off the books. At the same time, if evidence emerges in the interim indicating a continued need for this regulation, the agency can extend the sunset date as appropriate.

Appendix Q to 10 CFR Part 50

Appendix Q to 10 CFR part 50, “Pre-Application Early Review of Site Suitability Issues,” provides for NRC staff issuance of a staff site report on site suitability issues with respect to a specific site for which a potential applicant seeks the NRC staff's views. The staff site report is issued after receiving and considering the comments of Federal, State, and local agencies and interested persons, as well as the views of the Advisory Committee on Reactor Safeguards, but only if site safety issues are raised. The staff site report does not bind the Commission or a presiding officer in any hearing under 10 CFR part 2, “Agency Rules of Practice and Procedure.” This process was not included in 10 CFR part 52 because it was not needed due to the early site permit process in subpart A of 10 CFR part 52, “Early Site Permits.” Similarly, it was not included in the proposed 10 CFR part 53. Given its limited value, appendix Q should be sunsetted. The downside is that removal of this regulation could remove some flexibility to part 50, “Domestic Licensing of Production and Utilization Facilities,” applicants to potentially address regulatory issues related to siting, such as seismic hazards, emergency planning, and environmental considerations early in the process; however, the benefits afforded by the staff site report could be covered in pre-application interactions through issuance of white paper or topical report feedback. Moreover, applicants for licenses and permits under part 50 may also apply for an Early Site Permit under part 52. Thus, while this provision constituted part of the NRC's permitting regime authorized by statute, it is no longer needed. A sunset date will allow this unused regulation to roll off the books. At the same time, if evidence emerges in the interim indicating a continued need for this regulation, the agency can extend the sunset date as appropriate.

Commenting on Other Agencies' Environmental Impact Statements

The regulation in 10 CFR 51.124, “Commission duty to comment,” states the NRC's policy to provide comments on draft environmental impact statements prepared by other Federal agencies. However, the regulation is not needed because it only states a policy; the NRC has authority to provide comments on draft environmental impact statements from other Federal agencies independent of the operation of 10 CFR 51.124. Thus, while this provision was not promulgated under one of the three statutes identified in E.O. 14270, it is no longer needed. A sunset date will allow this unnecessary regulation to roll off the books. At the same time, if evidence emerges in the interim indicating a continued need for this regulation, the agency can extend the sunset date as appropriate.

10 CFR Part 76—Certification of Gaseous Diffusion Plants

The NRC has not issued a certification under 10 CFR part 76, “Certification of Gaseous Diffusion Plants,” since 1996 and does not expect to issue another one because gaseous diffusion technology is now obsolete. While these provisions constitute part of the NRC's permitting regime authorized by statute and at one time played a role in assuring adequate protection of public health and safety, they are no longer needed. A sunset date will allow these outdated regulations to roll off the books. At the same time, if evidence emerges in the interim indicating a continued need for these regulations, the agency can extend the sunset date as appropriate.

10 CFR Part 160—Trespassing on Commission Property

The regulations in 10 CFR part 160, “Trespassing on Commission Property,” are unnecessary because the General Services Administration regulations and notices currently on the NRC's facilities provide adequate warning to the public against trespassing, which is also covered under State laws. These regulations promulgated under the Atomic Energy Act are not part of the NRC's regulatory permitting regime and are not statutorily required. A sunset date will allow these duplicative regulations to roll off the books. At the same time, if evidence emerges in the interim indicating a continued need for these regulations, the agency can extend the sunset date as appropriate.

Written Interpretations by the General Counsel

The regulations in 10 CFR 19.4, 20.1006, 21.4, 25.7, 26.7, 30.5, 34.5, 36.5, 37.9, 39.5, 40.6, 50.3, 51.5, 52.2, 54.5, 55.6, 60.5, 61.5, 62.4, 63.5, 70.6, 71.2, 72.5, 73.3, 74.5, 75.5, 81.4, 95.7, 110.3, 140.4, 150.5, 170.4, and 171.7 state that no interpretation of the meaning of NRC regulations are to be considered binding on the Commission, other than a written interpretation by the General Counsel. Some of these provisions were part of the original rulemakings for these parts.³ No explanations for including these provisions were provided in the proposed or final rules. Usage or reliance on these provisions has historically been rare. There is also considerable doubt that the General Counsel, as an inferior officer, can bind the Commission on a question of law. These regulations promulgated under the Atomic Energy Act are not part of the NRC's regulatory permitting regime and are not statutorily required. A sunset date will allow these seldomly used regulations to roll off the books. At the same time, if evidence emerges in the interim indicating a continued need for these regulations, the agency can extend the sunset date as appropriate.

³ For example, the 10 CFR part 50 Interpretation provision first appeared in a 1947 final rule (12 FR 7651; November 18, 1947).

V. Regulatory Flexibility Certification

Under the Regulatory Flexibility Act (5 U.S.C. 605(b)), the NRC certifies that this rule does not have a significant economic impact on a substantial number of small entities. The substantive portions of this final rule affect only the licensing and operation of nuclear power plants. The companies that own these plants do not fall within the scope of the definition of “small entities” set forth in the Regulatory Flexibility Act or the size standards established by the NRC (10 CFR 2.810).

VI. Regulatory Analysis

Because the sunset rule is needed to implement E.O. 14270, and this rulemaking is an administrative activity, the NRC did not prepare a regulatory analysis.

VII. Backfitting and Issue Finality

The sunset rule would not constitute backfitting as that term is defined in 10 CFR 50.109, “Backfitting,” or affect the issue finality of an approval issued under 10 CFR part 52. As a general matter, eliminating a requirement does not meet the definition of “backfitting” because such an act by the NRC would be a nonmandatory relaxation of an existing requirement. For the same reason, the elimination of a requirement would not affect the issue finality of a 10 CFR part 52 approval.

VIII. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885).

IX. National Environmental Policy Act

The NRC has determined that this final rule is the type of action described in 10 CFR 51.22(c)(2), which categorically excludes from environmental review rules that are corrective or of a minor, nonpolicy nature and do not substantially modify existing regulations. Therefore, neither an environmental impact statement nor environmental assessment has been prepared for this final rule.

X. Paperwork Reduction Act

This final rule does not contain a collection of information as defined in the Paperwork Reduction Act of 1995 (44 U.S.C. 3501 et seq.) and, therefore, is not subject to the requirements of the Paperwork Reduction Act of 1995.

XI. Regulatory Planning and Review

Executive Order (E.O.) 12866

The Office of Information and Regulatory Affairs (OIRA) has determined that this direct final rule is a significant regulatory action. Accordingly, NRC submitted this direct final rule to OIRA for review. The NRC is required to conduct an economic analysis in accordance with section 6(a)(3)(B) of E.O. 12866. However, NRC considers the costs incurred by this rule to be solely those related to the rulemaking process for this administrative activity.

Review Under E.O.s 14154, 14192, 14215, and 14300

The NRC has examined this direct final rule and has determined that it is consistent with the policies and directives outlined in E.O. 14154, “Unleashing American Energy,” E.O. 14192, “Unleashing Prosperity Through Deregulation,” E.O. 14215 “Ensuring Accountability for All Agencies,” and E.O. 14300, “Ordering the Reform of the Nuclear Regulatory Commission.” This direct final rule is considered an E.O. 14192 deregulatory action.

XII. Congressional Review Act

This direct final rule is a rule as defined in the Congressional Review Act (5 U.S.C. 801-808). However, the Office of Management and Budget has found it does not meet the criteria at 5 U.S.C. 804(2).

List of Subjects

10 CFR Part 2

Administrative practice and procedure, Antitrust, Byproduct material, Classified information, Confidential business information, Environmental protection, Freedom of information, Hazardous waste, Nuclear energy, Nuclear materials, Nuclear power plants and reactors, Penalties, Reporting and recordkeeping requirements, Sex discrimination, Source material, Special nuclear material, Waste treatment and disposal.

10 CFR Part 19

Criminal penalties, Environmental protection, Nuclear energy, Nuclear materials, Nuclear power plants and reactors, Occupational safety and health, Penalties, Radiation protection, Reporting and recordkeeping requirements, Sex discrimination.

10 CFR Part 20

Byproduct material, Criminal penalties, Fusion, Hazardous waste, Licensed material, Nuclear energy, Nuclear materials, Nuclear power plants and reactors, Occupational safety and health, Packaging and containers, Penalties, Radiation protection, Reporting and recordkeeping requirements, Source material, Special nuclear material, Waste treatment and disposal.

10 CFR Part 21

Nuclear power plants and reactors, Penalties, Radiation protection, Reporting and recordkeeping requirements.

10 CFR Part 25

Classified information, Criminal penalties, Investigations, Penalties, Reporting and recordkeeping requirements, Security measures.

10 CFR Part 26

Administrative practice and procedure, Alcohol abuse, Alcohol testing, Appeals, Drug abuse, Drug testing, Employee assistance programs, Fitness for duty, Management actions, Nuclear power plants and reactors, Privacy, Protection of information, Radiation protection, Reporting and recordkeeping requirements.

10 CFR Part 30

Byproduct material, Criminal penalties, Fusion, Government contracts, Intergovernmental relations, Isotopes, Nuclear energy, Nuclear materials, Penalties, Radiation protection, Reporting and recordkeeping requirements, Whistleblowing.

10 CFR Part 31

Byproduct material, Criminal penalties, Labeling, Nuclear energy, Nuclear materials, Packaging and containers, Penalties, Radiation protection, Reporting and recordkeeping requirements, Scientific equipment.

10 CFR Part 32

Byproduct material, Criminal penalties, Labeling, Nuclear energy, Nuclear materials, Radiation protection, Reporting and recordkeeping requirements.

10 CFR Part 34

Criminal penalties, Manpower training programs, Occupational safety and health, Packaging and containers, Penalties, Radiation protection, Radiography, Reporting and recordkeeping requirements, Scientific equipment, Security measures, X-rays.

10 CFR Part 35

Biologics, Byproduct material, Criminal penalties, Drugs, Health facilities, Health professions, Labeling, Medical devices, Nuclear energy, Nuclear materials, Occupational safety and health, Penalties, Radiation protection, Reporting and recordkeeping requirements.

10 CFR Part 36

Byproduct material, Criminal penalties, Nuclear energy, Nuclear materials, Radiation protection, Reporting and recordkeeping requirements, Scientific equipment, Security measures.

10 CFR Part 37

Byproduct material, Criminal penalties, Exports, Hazardous materials transportation, Imports, Licensed material, Nuclear materials, Penalties, Radioactive materials, Reporting and recordkeeping requirements, Security measures.

10 CFR Part 39

Byproduct material, Criminal penalties, Labeling, Nuclear energy, Nuclear material, Occupational safety and health, Oil and gas exploration—well logging, Penalties, Radiation protection, Reporting and recordkeeping requirements, Scientific equipment, Security measures, Source material, Special nuclear material.

10 CFR Part 40

Criminal penalties, Exports, Government contracts, Hazardous materials transportation, Hazardous waste, Nuclear energy, Nuclear materials, Penalties, Reporting and recordkeeping requirements, Source material, Uranium, Whistleblowing.

10 CFR Part 50

Administrative practice and procedure, Antitrust, Backfitting, Classified information, Criminal penalties, Education, Emergency planning, Fire prevention, Fire protection, Intergovernmental relations, Nuclear power plants and reactors, Penalties, Radiation protection, Reactor siting criteria, Reporting and recordkeeping requirements, Whistleblowing.

10 CFR Part 51

Administrative practice and procedure, Environmental impact statements, Hazardous waste, Nuclear energy, Nuclear materials, Nuclear power plants and reactors, Reporting and recordkeeping requirements.

10 CFR Part 52

Administrative practice and procedure, Antitrust, Combined license, Early site permit, Emergency planning, Fees, Inspection, Issue finality, Limited work authorization, Manufacturing license, Nuclear power plants and reactors, Probabilistic risk assessment, Prototype, Reactor siting criteria, Redress of site, Penalties, Reporting and recordkeeping requirements, Standard design, Standard design certification.

10 CFR Part 54

Administrative practice and procedure, Age-related degradation, Backfitting, Classified information, Criminal penalties, Environmental protection, Nuclear power plants and reactors, Penalties, Radiation protection, Reporting and recordkeeping requirements.

10 CFR Part 55

Criminal penalties, Manpower training programs, Nuclear power plants and reactors, Penalties, Reporting and recordkeeping requirements.

10 CFR Part 60

Criminal penalties, Hazardous waste, Indians, High-level waste, Intergovernmental relations, Nuclear energy, Nuclear materials, Nuclear power plants and reactors, Penalties, Radiation protection, Reporting and recordkeeping requirements, Waste treatment and disposal, Whistleblowing.

10 CFR Part 61

Criminal penalties, Hazardous waste, Indians, Intergovernmental relations, Low-level waste, Nuclear energy, Nuclear materials, Penalties, Reporting and recordkeeping requirements, Waste treatment and disposal, Whistleblowing.

10 CFR Part 62

Administrative practice and procedure, Denial of access, Emergency access to low-level waste disposal, Hazardous waste, Intergovernmental relations, Low-level radioactive waste, Low-level radioactive waste treatment and disposal, Nuclear energy, Nuclear materials, Radiation protection, Reporting and recordkeeping requirements.

10 CFR Part 63

Criminal penalties, Hazardous waste, High-level waste, Indians, Intergovernmental relations, Nuclear energy, Nuclear power plants and reactors, Penalties, Radiation protection, Reporting and recordkeeping requirements, Waste treatment and disposal.

10 CFR Part 70

Classified information, Criminal penalties, Emergency medical services, Hazardous materials transportation, Material control and accounting, Nuclear energy, Nuclear materials, Packaging and containers, Penalties, Radiation protection, Reporting and recordkeeping requirements, Scientific equipment, Security measures, Special nuclear material, Whistleblowing.

10 CFR Part 71

Criminal penalties, Hazardous materials transportation, Intergovernmental relations, Nuclear materials, Packaging and containers, Penalties, Radioactive materials, Reporting and recordkeeping requirements.

10 CFR Part 72

Administrative practice and procedure, Hazardous waste, Indians, Intergovernmental relations, Nuclear energy, Penalties, Radiation protection, Reporting and recordkeeping requirements, Security measures, Spent fuel, Whistleblowing.

10 CFR Part 73

Criminal penalties, Exports, Hazardous materials transportation, Imports, Nuclear energy, Nuclear materials, Nuclear power plants and reactors, Penalties, Reporting and recordkeeping requirements, Security measures.

10 CFR Part 74

Accounting, Criminal penalties, Hazardous materials transportation, Material control and accounting, Nuclear energy, Nuclear materials, Packaging and containers, Penalties, Radiation protection, Reporting and recordkeeping requirements, Scientific equipment, Special nuclear material.

10 CFR Part 75

Criminal penalties, Intergovernmental relations, Nuclear energy, Nuclear materials, Nuclear power plants and reactors, Penalties, Reporting and recordkeeping requirements, Security measures, Treaties.

10 CFR Part 76

Certification, Criminal penalties, Nuclear energy, Penalties, Radiation protection, Reporting and record keeping requirements, Security measures, Special nuclear material, Uranium, Uranium enrichment by gaseous diffusion.

10 CFR Part 81

Administrative practice and procedure, Inventions and patents, Reporting and recordkeeping requirements.

10 CFR Part 95

Classified information, Criminal penalties, Penalties, Reporting and recordkeeping requirements, Security measures.

10 CFR Part 110

Administrative practice and procedure, Classified information, Criminal penalties, Exports, Imports, Intergovernmental relations, Nuclear energy, Nuclear materials, Nuclear power plants and reactors, Penalties, Reporting and recordkeeping requirements, Scientific equipment.

10 CFR Part 140

Insurance, Intergovernmental relations, Nuclear materials, Nuclear power plants and reactors, Penalties, Reporting and recordkeeping requirements.

10 CFR Part 150

Criminal penalties, Hazardous materials transportation, Intergovernmental relations, Nuclear energy, Nuclear materials, Penalties, Reporting and recordkeeping requirements, Security measures, Source material, Special nuclear material.

10 CFR Part 160

Federal buildings and facilities, Penalties, Security measures.

10 CFR Part 170

Byproduct material, Import and export licenses, Intergovernmental relations, Non-payment penalties, Nuclear energy, Nuclear materials, Nuclear power plants and reactors, Source material, Special nuclear material.

10 CFR Part 171

Annual charges, Approvals, Byproduct material, Holders of certificates, Intergovernmental relations, Nonpayment penalties, Nuclear materials, Nuclear power plants and reactors, Registrations, Source material, Special nuclear material.

For the reasons set out in the preamble and under the authority of the Atomic Energy Act of 1954, as amended; the Energy Reorganization Act of 1974, as amended; and 5 U.S.C. 552 and 553, the NRC is adopting the following amendments to 10 CFR parts 2, 19, 20, 21, 25, 26, 30, 31, 32, 34, 35, 36, 37, 39, 40, 50, 51, 52, 54, 55, 60, 61, 62, 63, 70, 71, 72, 73, 74, 75, 76, 81, 95, 110, 140, 150, 160, 170, and 171.

PART 2—AGENCY RULES OF PRACTICE AND PROCEDURE

1. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note. Section 2.205(j) also issued under Sec. 31001(s), Pub. L. 104-134, 110 Stat. 1321-373 (28 U.S.C. 2461 note).

2. In § 2.600, add paragraph (e) to read as follows:

§ 2.600 Scope of subpart.

* * * * *

(e) This section and §§ 2.601 through 2.629 shall cease to have effect on January 8, 2027, unless the NRC determines that the cessation deadline should be extended to a date not more than 5 years in the future after offering the public an opportunity to provide input on the costs and benefits of these sections and considering that input. The NRC will publish a document in the Federal Register announcing its determination and revising or removing this paragraph (e) accordingly.

3. Revise § 2.807 to read as follows:

§ 2.807 Effective date and sunsetting.

(a) The notice of adoption of a regulation will specify the effective date. Publication or service of the notice and regulation, other than one granting or recognizing exemptions or relieving from restrictions, will be made not less than thirty (30) days prior to the effective date unless the Commission directs otherwise on good cause found and published in the notice of rulemaking.

(b) All regulations promulgated after January 8, 2026, under the authority of the Atomic Energy Act of 1954, the Energy Reorganization Act of 1974, or the Nuclear Waste Policy Act of 1982 that are not required by statute or not part of a regulatory permitting regime authorized by statute, will include a conditional sunset date that will not be more than 5 years in the future from the effective date of the regulation.

4. In § 2.1400, add two sentences at the end of the paragraph to read as follows:

§ 2.1400 Purpose and scope of this subpart.

* * * This subpart shall cease to have effect on January 8, 2027, unless the NRC determines that the cessation deadline should be extended to a date not more than 5 years in the future after offering the public an opportunity to provide input on the costs and benefits of this subpart and considering that input. The NRC will publish a document in the Federal Register announcing its determination and revising or removing this section accordingly.

5. In § 2.1500, add paragraph (c) to read as follows:

§ 2.1500 Purpose and scope.

* * * * *

(c) This subpart shall cease to have effect on January 8, 2027, unless the NRC determines that the cessation deadline should be extended to a date not more than 5 years in the future after offering the public an opportunity to provide input on the costs and benefits of this subpart and considering that input. The NRC will publish a document in the Federal Register announcing its determination and revising or removing this paragraph (c) accordingly.

PART 19—NOTICES, INSTRUCTIONS AND REPORTS TO WORKERS: INSPECTION AND INVESTIGATIONS

6. The authority citation for part 19 continues to read as follows:

Authority: Atomic Energy Act of 1954, secs. 53, 63, 81, 103, 104, 161, 223, 234, 1701 (42 U.S.C. 2073, 2093, 2111, 2133, 2134, 2201, 2273, 2282, 2297f); Energy Reorganization Act of 1974, secs. 201, 211, 401 (42 U.S.C. 5841, 5851, 5891); 44 U.S.C. 3504 note.

7. In § 19.4, add two sentences at the end of the paragraph to read as follows:

§ 19.4 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 20—STANDARDS FOR PROTECTION AGAINST RADIATION

8. The authority citation for part 20 continues to read as follows:

Authority: Atomic Energy Act of 1954, secs. 11, 53, 63, 65, 81, 103, 104, 161, 170H, 182, 186, 223, 234, 274, 1701 (42 U.S.C. 2014, 2073, 2093, 2095, 2111, 2133, 2134, 2201, 2210h, 2232, 2236, 2273, 2282, 2021, 2297f); Energy Reorganization Act of 1974, secs. 201, 202 (42 U.S.C. 5841, 5842); Low-Level Radioactive Waste Policy Amendments Act of 1985, sec. 2 (42 U.S.C. 2021b); 44 U.S.C. 3504 note.

9. In § 20.1006, add two sentences at the end of the paragraph to read as follows:

§ 20.1006 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 21—REPORTING OF DEFECTS AND NONCOMPLIANCE

10. The authority citation for part 21 continues to read as follows:

Authority: Atomic Energy Act of 1954, secs. 53, 63, 81, 103, 104, 161, 223, 234, 1701 (42 U.S.C. 2073, 2093, 2111, 2133, 2134, 2201, 2273, 2282, 2297f); Energy Reorganization Act of 1974, secs. 201, 206 (42 U.S.C. 5841, 5846); Nuclear Waste Policy Act of 1982, secs. 135, 141 (42 U.S.C. 10155, 10161); 44 U.S.C. 3504 note.

11. In § 21.4, add two sentences at the end of the paragraph to read as follows:

§ 21.4 Interpretations.

* * * This section shall cease to have effect on January 8, 2027 unless the NRC determines that the cessation deadline should be extended to a date not more than 5 years in the future after offering the public an opportunity to provide input on the costs and benefits of this section and considering that input. The NRC will publish a document in the Federal Register announcing its determination and revising or removing this section accordingly.

PART 25—ACCESS AUTHORIZATION

12. The authority citation for part 25 continues to read as follows:

Authority: Atomic Energy Act of 1954, secs. 145, 161, 223, 234 (42 U.S.C. 2165, 2201, 2273, 2282); Energy Reorganization Act of 1974, sec. 201 (42 U.S.C. 5841); 44 U.S.C. 3504 note; E.O. 10865, 25 FR 1583, as amended, 3 CFR, 1959-1963 Comp., p. 398; E.O. 12829, 58 FR 3479, 3 CFR, 1993 Comp., p. 570; E.O. 13526, 75 FR 707, 3 CFR, 2009 Comp., p. 298; E.O. 12968, 60 FR 40245, 3 CFR, 1995 Comp., p. 391.

Section 25.17(f) and Appendix A also issued under 31 U.S.C. 9701; 42 U.S.C. 2214.

13. In § 25.7, add two sentences at the end of the paragraph to read as follows:

§ 25.7 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 26—FITNESS FOR DUTY PROGRAMS

14. The authority citation for part 26 continues to read as follows:

Authority: Atomic Energy Act of 1954, secs. 53, 103, 104, 107, 161, 223, 234, 1701 (42 U.S.C. 2073, 2133, 2134, 2137, 2201, 2273, 2282, 2297f); Energy Reorganization Act of 1974, secs. 201, 202 (42 U.S.C. 5841, 5842); 44 U.S.C. 3504 note.

15. In § 26.7, add a two sentences at the end of the paragraph to read as follows:

§ 26.7 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

16. In § 26.121, add two sentences at the end of the paragraph to read as follows:

§ 26.121 Purpose.

* * * This subpart shall cease to have effect on January 8, 2027, unless the NRC determines that the cessation deadline should be extended to a date not more than 5 years in the future after offering the public an opportunity to provide input on the costs and benefits of this subpart and considering that input. The NRC will publish a document in the Federal Register announcing its determination and revising or removing this subpart accordingly.

PART 30—RULES OF GENERAL APPLICABILITY TO DOMESTIC LICENSING OF BYPRODUCT MATERIAL

17. The authority citation for part 30 continues to read as follows:

Authority: Atomic Energy Act of 1954, secs. 11, 81, 161, 181, 182, 183, 184, 186, 187, 223, 234, 274 (42 U.S.C. 2014, 2111, 2201, 2231, 2232, 2233, 2234, 2236, 2237, 2273, 2282, 2021); Energy Reorganization Act of 1974, secs. 201, 202, 206, 211 (42 U.S.C. 5841, 5842, 5846, 5851); 44 U.S.C. 3504 note.

18. In § 30.5, add two sentences at the end of the paragraph to read as follows:

§ 30.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 31—GENERAL DOMESTIC LICENSES FOR BYPRODUCT MATERIAL

19. The authority citation for part 31 continues to read as follows:

Authority: Atomic Energy Act of 1954, secs. 81, 161, 183, 223, 234, 274 (42 U.S.C. 2111, 2201, 2233, 2273, 2282, 2021); Energy Reorganization Act of 1974, secs. 201, 202, 206 (42 U.S.C. 5841, 5842, 5846); 44 U.S.C. 3504 note.

20. In § 31.21, add two sentences at the end of the paragraph to read as follows:

§ 31.21 Maintenance of records.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 32—SPECIFIC DOMESTIC LICENSES TO MANUFACTURE OR TRANSFER CERTAIN ITEMS CONTAINING BYPRODUCT MATERIAL

21. The authority citation for part 32 continues to read as follows:

Authority: Atomic Energy Act of 1954, secs. 81, 161, 170H, 181, 182, 183, 223, 234, 274 (42 U.S.C. 2111, 2201, 2210h, 2231, 2232, 2233, 2273, 2282, 2021); Energy Reorganization Act of 1974, sec. 201 (42 U.S.C. 5841); 44 U.S.C. 3504 note.

22. In § 32.3, add two sentences at the end of the paragraph to read as follows:

§ 32.3 Maintenance of records.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 34—LICENSES FOR INDUSTRIAL RADIOGRAPHY AND RADIATION SAFETY REQUIREMENTS FOR INDUSTRIAL RADIOGRAPHIC OPERATIONS

23. The authority citation for part 34 continues to read as follows:

Authority: Atomic Energy Act of 1954, secs. 81, 161, 181, 182, 183, 223, 234, 274 (42 U.S.C. 2111, 2201, 2231, 2232, 2233, 2273, 2282, 2021); Energy Reorganization Act of 1974, secs. 201, 206 (42 U.S.C. 5841, 5846); 44 U.S.C. 3504 note.

24. In § 34.5, add two sentences at the end of the paragraph to read as follows:

§ 34.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

25. In § 34.87, add two sentences at the end of the paragraph to read as follows:

§ 34.87 Form of records.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

26. In § 34.111 add two sentences at the end of the paragraph to read as follows:

§ 34.111 Applications for exemptions.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 35—MEDICAL USE OF BYPRODUCT MATERIAL

27. The authority citation for part 35 continues to read as follows:

Authority: Atomic Energy Act of 1954, secs. 81, 161, 181, 182, 183, 223, 234, 274 (42 U.S.C. 2111, 2201, 2231, 2232, 2233, 2273, 2282, 2021); Energy Reorganization Act of 1974, secs. 201, 206 (42 U.S.C. 5841, 5846); 44 U.S.C. 3504 note.

28. In § 35.5, add two sentences at the end of the paragraph to read as follows:

§ 35.5 Maintenance of records.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

29. In § 35.19, add two sentences at the end of the paragraph to read as follows:

§ 35.19 Specific exemptions.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 36—LICENSES AND RADIATION SAFETY REQUIREMENTS FOR IRRADIATORS

30. The authority citation for part 36 continues to read as follows:

Authority: Atomic Energy Act of 1954, secs. 81, 161, 181, 182, 183, 223, 234, 274 (42 U.S.C. 2111, 2112, 2201, 2231, 2233, 2273, 2282, 2021); Energy Reorganization Act of 1974, secs. 201, 206 (42 U.S.C. 5841, 5846); 44 U.S.C. 3504 note.

31. In § 36.5, add two sentences at the end of the paragraph to read as follows:

§ 36.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

32. In § 36.17, add two sentences at the end of paragraph (a) to read as follows:

§ 36.17 Applications for exemptions.

(a) * * * This paragraph (a) shall cease to have effect on January 8, 2027, unless the NRC determines that the cessation deadline should be extended to a date not more than 5 years in the future after offering the public an opportunity to provide input on the costs and benefits of this paragraph (a) and considering that input. The NRC will publish a document in the Federal Register announcing its determination and revising or removing this paragraph (a) accordingly.

* * * * *

PART 37—PHYSICAL PROTECTION OF CATEGORY 1 AND CATEGORY QUANTITIES OF RADIOACTIVE MATERIAL

33. The authority citation for part 37 continues to read as follows:

Authority: Atomic Energy Act of 1954, secs. 11, 53, 81, 103, 104, 147, 148, 149, 161, 182, 183, 223, 234, 274 (42 U.S.C. 2014, 2073, 2111, 2133, 2134, 2167, 2168, 2169, 2201, 2232, 2233, 2273, 2282, 2021); Energy Reorganization Act of 1974, secs. 201, 202 (42 U.S.C. 5841, 5842); 44 U.S.C. 3504 note.

34. In § 37.9, add two sentences at the end of the paragraph to read as follows:

§ 37.9 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 39—LICENSE AND RADIATION SAFETY REQUIREMENTS FOR WELL LOGGING

35. The authority citation for part 39 continues to read as follows:

Authority: Atomic Energy Act of 1954, secs. 53, 57, 62, 63, 65, 69, 81, 161, 181, 182, 183, 223, 234 (42 U.S.C. 2073, 2077, 2092, 2093, 2095, 2099, 2111, 2112, 2201, 2232, 2233, 2273, 2282); Energy Reorganization Act of 1974, secs. 201, 206 (42 U.S.C. 5841, 5846); 44 U.S.C. 3504 note.

36. In § 39.5, add two sentences at the end of the paragraph to read as follows:

§ 39.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

37. In § 39.91, add two sentences at the end of the paragraph to read as follows:

§ 39.91 Applications for exemptions.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 40—DOMESTIC LICENSING OF SOURCE MATERIAL

38. The authority citation for part 40 continues to read as follows:

Authority: Atomic Energy Act of 1954, secs. 62, 63, 64, 65, 69, 81, 83, 84, 122, 161, 181, 182, 183, 184, 186, 187, 193, 223, 234, 274, 275 (42 U.S.C. 2092, 2093, 2094, 2095, 2099, 2111, 2113, 2114, 2152, 2201, 2231, 2232, 2233, 2234, 2236, 2237, 2243, 2273, 2282, 2021, 2022); Energy Reorganization Act of 1974, secs. 201, 202, 206, 211 (42 U.S.C. 5841, 5842, 5846, 5851); Uranium Mill Tailings Radiation Control Act of 1978, sec. 104 (42 U.S.C. 7914); 44 U.S.C. 3504 note.

39. In § 40.6, add two sentences at the end of the paragraph to read as follows:

§ 40.6 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 50—DOMESTIC LICENSING OF PRODUCTION AND UTILIZATION FACILITIES

40. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

41. In § 50.3, add two sentences at the end of the paragraph to read as follows:

§ 50.3 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

42. In § 50.150, add paragraph (d) to read as follows:

§ 50.150 Aircraft impact assessment.

* * * * *

(d) Sunsetting provisions. This section shall cease to have effect on January 8, 2027, unless the NRC determines that the cessation deadline should be extended to a date not more than 5 years in the future after offering the public an opportunity to provide input on the costs and benefits of this section and considering that input. The NRC will publish a document in the Federal Register announcing its determination and revising or removing this section accordingly.

43. In appendix Q to part 50, add section 8 to read as follows:

Appendix Q to Part 50—Pre-Application Early Review of Site Suitability Issues.

* * * * *

8. This appendix shall cease to have effect on January 8, 2027, unless the NRC determines that the cessation deadline should be extended to a date not more than 5 years in the future after offering the public an opportunity to provide input on the costs and benefits of this appendix and considering that input. The NRC will publish a document in the Federal Register announcing its determination and revising or removing this appendix accordingly.

PART 51—ENVIRONMENTAL PROTECTION REGULATIONS FOR DOMESTIC LICENSING AND RELATED REGULATORY FUNCTIONS

44. The authority citation for part 51 continues to read as follows:

Authority: Atomic Energy Act of 1954, secs. 161, 193 (42 U.S.C. 2201, 2243); Energy Reorganization Act of 1974, secs. 201, 202 (42 U.S.C. 5841, 5842); National Environmental Policy Act of 1969 (42 U.S.C. 4332, 4334, 4335); Nuclear Waste Policy Act of 1982, secs. 144(f), 121, 135, 141, 148 (42 U.S.C. 10134(f), 10141, 10155, 10161, 10168); 44 U.S.C. 3504 note.

Sections 51.20, 51.30, 51.60, 51.80, and 51.97 also issued under Nuclear Waste Policy Act secs. 135, 141, 148 (42 U.S.C. 10155, 10161, 10168).

Section 51.22 also issued under Atomic Energy Act sec. 274 (42 U.S.C. 2021) and under Nuclear Waste Policy Act sec. 121 (42 U.S.C. 10141).

Sections 51.43, 51.67, and 51.109 also issued under Nuclear Waste Policy Act sec. 114(f) (42 U.S.C. 10134(f)).

45. In § 51.5, add two sentences at the end of the paragraph to read as follows:

§ 51.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

46. In § 51.124, add two sentences at the end of the paragraph to read as follows:

§ 51.124 Commission duty to comment.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 52—LICENSES, CERTIFICATIONS, AND APPROVALS FOR NUCLEAR POWER PLANTS

47. The authority citation for part 52 continues to read as follows:

Authority: Atomic Energy Act of 1954, secs. 103, 104, 147, 149, 161, 181, 182, 183, 185, 186, 189, 223, 234 (42 U.S.C. 2133, 2134, 2167, 2169, 2201, 2231, 2232, 2233, 2235, 2236, 2239, 2273, 2282); Energy Reorganization Act of 1974, secs. 201, 202, 206, 211 (42 U.S.C. 5841, 5842, 5846, 5851); 44 U.S.C. 3504 note.

48. In § 52.2, add two sentences at the end of the paragraph to read as follows:

§ 52.2 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 54—REQUIREMENTS FOR RENEWAL OF OPERATING LICENSES FOR NUCLEAR POWER PLANTS

49. The authority citation for part 54 continues to read as follows:

Authority: Atomic Energy Act of 1954, secs. 102, 103, 104, 161, 181, 182, 183, 186, 189, 223, 234 (42 U.S.C. 2132, 2133, 2134, 2136, 2137, 2201, 2231, 2232, 2233, 2236, 2239, 2273, 2282); Energy Reorganization Act of 1974, secs. 201, 202, 206 (42 U.S.C. 5841, 5842, 5846); 44 U.S.C. 3504 note.

Section 54.17 also issued under E.O. 12829, 58 FR 3479, 3 CFR, 1993 Comp., p. 570; E.O. 13526, 75 FR 707, 3 CFR, 2009 Comp., p. 298; E.O. 12968, 60 FR 40245, 3 CFR, 1995 Comp., p. 391.

50. In § 54.5, add two sentences at the end of the paragraph to read as follows:

§ 54.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 55—OPERATORS' LICENSES

51. The authority citation for part 55 continues to read as follows:

Authority: Atomic Energy Act of 1954, secs. 107, 161, 181, 182, 183, 186, 187, 223, 234 (42 U.S.C. 2137, 2201, 2231, 2232, 2233, 2236, 2237, 2273, 2282); Energy Reorganization Act of 1974, secs. 201, 202 (42 U.S.C. 5841, 5842); Nuclear Waste Policy Act of 1982, sec. 306 (42 U.S.C. 10226); 44 U.S.C. 3504 note.

52. In § 55.6, add two sentences at the end of the paragraph to read as follows:

§ 55.6 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 60—DISPOSAL OF HIGH-LEVEL RADIOACTIVE WASTES IN GEOLOGIC REPOSITORIES

53. The authority citation for part 60 continues to read as follows:

Authority: Atomic Energy Act of 1954, secs. 51, 53, 62, 63, 65, 81, 161, 182, 183, 223, 234 (42 U.S.C. 2071, 2073, 2092, 2093, 2095, 2111, 2201, 2232, 2233, 2273, 2282); Energy Reorganization Act of 1974, secs. 201, 202, 206, 211 (42 U.S.C. 5841, 5842, 5846, 5851); 42 U.S.C. 2021a; National Environmental Policy Act of 1969 (42 U.S.C. 4332); Nuclear Waste Policy Act of 1982, secs. 114, 117, 121 (42 U.S.C. 10134, 10137, 10141), 44 U.S.C. 3504 note.

54. In § 60.5, add two sentences at the end of the paragraph to read as follows:

§ 60.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 61—LICENSING REQUIREMENTS FOR LAND DISPOSAL OF RADIOACTIVE WASTE

55. The authority citation for part 61 continues to read as follows:

Authority: Atomic Energy Act of 1954, secs. 53, 57, 62, 63, 65, 81, 161, 181, 182, 183, 223, 234 (42 U.S.C. 2073, 2077, 2092, 2093, 2095, 2111, 2201, 2231, 2232, 2233, 2273, 2282); Energy Reorganization Act of 1974, secs. 201, 206, 211 (42 U.S.C. 5841, 5846, 5851); Low-Level Radioactive Waste Policy Amendments Act of 1985, sec. 2 (42 U.S.C. 2021b); 44 U.S.C. 3504 note.

56. In § 61.5, add two sentences at the end of the paragraph to read as follows:

§ 61.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 62—CRITERIA AND PROCEDURES FOR EMERGENCY ACCESS TO NON-FEDERAL AND REGIONAL LOW-LEVEL WASTE DISPOSAL FACILITIES

57. The authority citation for part 62 continues to read as follows:

Authority: Atomic Energy Act of 1954, sec. 161 (42 U.S.C. 2201); Energy Reorganization Act of 1974, secs. 201 (42 U.S.C. 5841); Low-Level Radioactive Waste Policy Amendments Act of 1985, secs. 2, 6 (42 U.S.C. 2021b, 2021f); 44 U.S.C. 3504 note.

58. In § 62.4, add two sentences at the end of the paragraph to read as follows:

§ 62.4 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 63—DISPOSAL OF HIGH-LEVEL RADIOACTIVE WASTES IN A GEOLOGIC REPOSITORY AT YUCCA MOUNTAIN, NEVADA

59. The authority citation for part 63 continues to read as follows:

Authority: Atomic Energy Act of 1954, secs. 51, 53, 62, 63, 65, 81, 161, 182, 183, 223, 234 (42 U.S.C. 2071, 2073, 2092, 2093, 2095, 2111, 2201, 2232, 2233, 2273, 2282); Energy Reorganization Act of 1974, secs. 201, 202, 206, 211 (42 U.S.C. 5841, 5842, 5846, 5851); 42 U.S.C. 2021a; National Environmental Policy Act of 1969 (42 U.S.C. 4332); Nuclear Waste Policy Act of 1982, secs. 114, 117, 121 (42 U.S.C. 10134, 10137, 10141); 44 U.S.C. 3504 note.

60. In § 63.5, add two sentences at the end of the paragraph to read as follows:

§ 63.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 70—DOMESTIC LICENSING OF SPECIAL NUCLEAR MATERIAL

61. The authority citation for part 70 continues to read as follows:

Authority: Atomic Energy Act of 1954, secs. 51, 53, 57(d), 108, 122, 161, 182, 183, 184, 186, 187, 193, 223, 234, 274, 1701 (42 U.S.C. 2071, 2073, 2077(d), 2138, 2152, 2201, 2232, 2233, 2234, 2236, 2237, 2243, 2273, 2282, 2021, 2297f); Energy Reorganization Act of 1974, secs. 201, 202, 206, 211 (42 U.S.C. 5841, 5842, 5846, 5851); Nuclear Waste Policy Act of 1982, secs. 135, 141 (42 U.S.C. 10155, 10161); 44 U.S.C. 3504 note.

Sections 70.1(c) and 70.20a(b) also issued under secs. 135, 141, Pub. L. 97-425, 96 Stat. 2232, 2241 (42 U.S.C. 10155, 10161).

Section 70.21(g) also issued under Atomic Energy Act sec. 122 (42 U.S.C. 2152).

Section 70.31 also issued under Atomic Energy Act sec. 57(d) (42 U.S.C. 2077(d)).

Sections 70.36 and 70.44 also issued under Atomic Energy Act sec. 184 (42 U.S.C. 2234).

Section 70.81 also issued under Atomic Energy Act secs. 186, 187 (42 U.S.C. 2236, 2237).

Section 70.82 also issued under Atomic Energy Act sec. 108 (42 U.S.C. 2138).

62. In § 70.6, add two sentences at the end of the paragraph to read as follows:

§ 70.6 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 71—PACKAGING AND TRANSPORTATION OF RADIOACTIVE MATERIAL

63. The authority citation for part 71 continues to read as follows:

Authority: Atomic Energy Act of 1954, secs. 53, 57, 62, 63, 81, 161, 182, 183, 223, 234, 1701 (42 U.S.C. 2073, 2077, 2092, 2093, 2111, 2201, 2232, 2233, 2273, 2282, 2297f); Energy Reorganization Act of 1974, secs. 201, 202, 206, 211 (42 U.S.C. 5841, 5842, 5846, 5851); Nuclear Waste Policy Act of 1982, sec. 180 (42 U.S.C. 10175); 44 U.S.C. 3504 note.

Section 71.97 also issued under Sec. 301, Pub. L. 96-295, 94 Stat. 789 (42 U.S.C. 5841 note).

64. In § 71.2, add two sentences at the end of the paragraph to read as follows:

§ 71.2 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 72—LICENSING REQUIREMENTS FOR THE INDEPENDENT STORAGE OF SPENT NUCLEAR FUEL, HIGH-LEVEL RADIOACTIVE WASTE, AND REACTOR-RELATED GREATER THAN CLASS C WASTE

65. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

66. In § 72.5, add two sentences at the end of the paragraph to read as follows:

§ 72.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 73—PHYSICAL PROTECTION OF PLANTS AND MATERIALS

67. The authority citation for part 73 continues to read as follows:

Authority: Atomic Energy Act of 1954, secs. 53, 147, 149, 161, 161A, 170D, 170E, 170H, 170I, 223, 229, 234, 1701 (42 U.S.C. 2073, 2167, 2169, 2201, 2201a, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.37(b)(2) also issued under Sec. 301, Public Law 96-295, 94 Stat. 789 (42 U.S.C. 5841 note).

68. In § 73.3, add two sentences at the end of the paragraph to read as follows:

§ 73.3 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 74—MATERIAL CONTROL AND ACCOUNTING OF SPECIAL NUCLEAR MATERIAL

69. The authority citation for part 74 continues to read as follows:

Authority: Atomic Energy Act of 1954, secs. 53, 57, 161, 182, 223, 234, 1701 (42 U.S.C. 2073, 2077, 2201, 2232, 2273, 2282, 2297f); Energy Reorganization Act of 1974, secs. 201, 202 (42 U.S.C. 5841, 5842); 44 U.S.C. 3504 note.

70. In § 74.5, add two sentences at the end of the paragraph to read as follows:

§ 74.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 75—SAFEGUARDS ON NUCLEAR MATERIAL—IMPLEMENTATION OF SAFEGUARDS AGREEMENTS BETWEEN THE UNITED STATES AND THE INTERNATIONAL ATOMIC ENERGY AGENCY

71. The authority citation for part 75 continues to read as follows:

Authority: Atomic Energy Act of 1954, secs. 53, 63, 103, 104, 122, 161, 223, 234, 1701 (42 U.S.C. 2073, 2093, 2133, 2134, 2152, 2201, 2273, 2282, 2297f); Energy Reorganization Act of 1974, sec. 201 (42 U.S.C. 5841); Nuclear Waste Policy Act of 1982, secs. 135, 141 (42 U.S.C. 10155, 10161); 44 U.S.C. 3504 note.

Section 75.4 also issued under Nuclear Waste Policy Act secs. 135 (42 U.S.C. 10155, 10161).

72. In § 75.5, add two sentences at the end of the paragraph to read as follows:

§ 75.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 76—CERTIFICATION OF GASEOUS DIFFUSION PLANTS

73. The authority citation for part 76 continues to read as follows:

Authority: Atomic Energy Act of 1954, secs. 122, 161, 193(f), 223, 234, 1701 (42 U.S.C. 2152, 2201, 2243(f), 2273, 2282, 2297f); Energy Reorganization Act of 1974, secs. 201, 206, 211 (42 U.S.C. 5841, 5846, 5851); 44 U.S.C. 3504 note.

Section 76.22 is also issued under Atomic Energy Act sec. 193(f) (42 U.S.C. 2243(f)).

Section 76.35(j) also issued under Atomic Energy Act sec. 122 (42 U.S.C. 2152).

74. In § 76.1, add paragraph (c) to read as follows:

§ 76.1 Purpose.

* * * * *

(c) The regulations contained in this part shall cease to have effect on January 8, 2027, unless the NRC determines that the cessation deadline should be extended to a date not more than 5 years in the future after offering the public an opportunity to provide input on the costs and benefits of this part and considering that input. The NRC will publish a document in the Federal Register announcing its determination and revising or removing this part accordingly.

PART 81—STANDARD SPECIFICATIONS FOR THE GRANTING OF PATENT LICENSES

75. The authority citation for part 81 continues to read as follows:

Authority: Atomic Energy Act of 1954, secs. 156, 161 (42 U.S.C. 2186, 2201); Energy Reorganization Act of 1974, sec. 201 (42 U.S.C. 5841); 44 U.S.C. 3504 note.

76. In § 81.4, add two sentences at the end of the paragraph to read as follows:

§ 81.4 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 95—FACILITY SECURITY CLEARANCE AND SAFEGUARDING OF NATIONAL SECURITY INFORMATION AND RESTRICTED DATA

77. The authority citation for part 95 continues to read as follows:

Authority: Atomic Energy Act of 1954, secs. 145, 161, 223, 234 (42 U.S.C. 2165, 2201, 2273, 2282); Energy Reorganization Act of 1974, sec. 201 (42 U.S.C. 5841); 44 U.S.C. 3504 note; E.O. 10865, as amended, 25 FR 1583, 3 CFR, 1959-1963 Comp., p. 398; E.O. 12829, 58 FR 3479, 3 CFR, 1993 Comp., p. 570; E.O. 12968, 60 FR 40245, 3 CFR, 1995 Comp., p. 391; E.O. 13526, 75 FR 707, 3 CFR, 2009 Comp., p. 298.

78. In § 95.7, add two sentences at the end of the paragraph to read as follows:

§ 95.7 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 110—EXPORT AND IMPORT OF NUCLEAR EQUIPMENT AND MATERIAL

79. The authority citation for part 110 continues to read as follows:

Authority: Atomic Energy Act of 1954, secs. 11, 51, 53, 54, 57, 62, 63, 64, 65, 81, 82, 103, 104, 109, 111, 121, 122, 123, 124, 126, 127, 128, 129, 133, 134, 161, 170H, 181, 182, 183, 184, 186, 187, 189, 223, 234 (42 U.S.C. 2014, 2071, 2073, 2074, 2077, 2092, 2093, 2094, 2095, 2111, 2112, 2133, 2134, 2139, 2141, 2151, 2152, 2153, 2154, 2155, 2156, 2157, 2158, 2160c, 2160d, 2201, 2210h, 2231, 2232, 2233, 2234, 2236, 2237, 2239, 2273, 2282); Energy Reorganization Act of 1974, sec. 201 (42 U.S.C. 5841); Administrative Procedure Act (5 U.S.C. 552, 553); 42 U.S.C. 2139a, 2155a; 44 U.S.C. 3504 note.

Section 110.1(b) also issued under 22 U.S.C. 2403; 22 U.S.C. 2778a; 50 App. U.S.C. 2401 et seq.

80. In § 110.3, add two sentences at the end of the paragraph to read as follows:

§ 110.3 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 140—FINANCIAL PROTECTION REQUIREMENTS AND INDEMNITY AGREEMENTS

81. The authority citation for part 140 continues to read as follows:

Authority: Atomic Energy Act of 1954, secs. 161, 170, 223, 234 (42 U.S.C. 2201, 2210, 2273, 2282); Energy Reorganization Act of 1974, secs. 201, 202 (42 U.S.C. 5841, 5842); 44 U.S.C. 3504 note.

82. In § 140.4, add two sentences at the end of the paragraph to read as follows:

§ 140.4 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 150—EXEMPTIONS AND CONTINUED REGULATORY AUTHORITY IN AGREEMENT STATES AND IN OFFSHORE WATERS UNDER SECTION 274

83. The authority citation for part 150 continues to read as follows:

Authority: Atomic Energy Act of 1954, secs. 11, 53, 81, 83, 84, 122, 161, 181, 223, 234, 274 (42 U.S.C. 2014, 2201, 2231, 2273, 2282, 2021); Energy Reorganization Act of 1974, sec. 201 (42 U.S.C. 5841); Nuclear Waste Policy Act of 1982, secs. 135, 141 (42 U.S.C. 10155, 10161); 44 U.S.C. 3504 note.

Sections 150.3, 150.15, 150.15a, 150.31, 150.32 also issued under Atomic Energy Act secs. 11e(2), 81, 83, 84 (42 U.S.C. 2014e(2), 2111, 2113, 2114).

Section 150.14 also issued under Atomic Energy Act sec. 53 (42 U.S.C. 2073).

Section 150.15 also issued under Nuclear Waste Policy Act sec. 135 (42 U.S.C. 10155, 10161).

Section 150.17a also issued under Atomic Energy Act sec. 122 (42 U.S.C. 2152).

Section 150.30 also issued under Atomic Energy Act sec. 234 (42 U.S.C. 2282).

84. In § 150.5, add two sentences at the end of the paragraph to read as follows:

§ 150.5 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 160—TRESPASSING ON COMMISSION PROPERTY

85. The authority citation for part 160 continues to read as follows:

Authority: Atomic Energy Act of 1954, secs. 161, 223, 229, 234 (42 U.S.C. 2201, 2273, 2278a, 2282); Energy Reorganization Act of 1974, sec. 201 (42 U.S.C. 5841).

86. In § 160.1, add two sentences at the end of the paragraph to read as follows:

§ 160.1 Purpose.

* * * The regulations in this part shall cease to have effect on January 8, 2027, unless the NRC determines that the cessation deadline should be extended to a date not more than 5 years in the future after offering the public an opportunity to provide input on the costs and benefits of this part and considering that input. The NRC will publish a document in the Federal Register announcing its determination and revising or removing this part accordingly.

PART 170—FEES FOR FACILITIES, MATERIALS, IMPORT AND EXPORT LICENSES, AND OTHER REGULATORY SERVICES UNDER THE ATOMIC ENERGY ACT OF 1954, AS AMENDED

87. The authority citation for part 170 continues to read as follows:

Authority: Atomic Energy Act of 1954, secs. 11, 161(w) (42 U.S.C. 2014, 2201(w)); Energy Reorganization Act of 1974, sec. 201 (42 U.S.C. 5841); 42 U.S.C. 2215; 31 U.S.C. 901, 902, 9701; 44 U.S.C. 3504 note.

88. In § 170.4, add two sentences at the end of the paragraph to read as follows:

§ 170.4 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

PART 171—ANNUAL FEES FOR REACTOR LICENSES AND FUEL CYCLE LICENSES AND MATERIAL LICENSES, INCLUDING HOLDERS OF CERTIFICATES OF COMPLIANCE, REGISTRATIONS, AND QUALITY ASSURANCE PROGRAM APPROVALS AND GOVERNMENT AGENCIES LICENSED BY THE NRC

89. The authority citation for part 171 continues to read as follows:

Authority: Atomic Energy Act of 1954, secs. 11, 161(w), 223, 234 (42 U.S.C. 2014, 2201(w), 2273, 2282); Energy Reorganization Act of 1974, sec. 201 (42 U.S.C. 5841); 42 U.S.C. 2215; 44 U.S.C. 3504 note.

90. In § 171.7, add two sentences at the end of the paragraph to read as follows:

§ 171.7 Interpretations.

* * * This section shall cease to have effect on January 8, 2027, unless the NRC determines that the cessation deadline should be extended to a date not more than 5 years in the future after offering the public an opportunity to provide input on the costs and benefits of this section and considering that input. The NRC will publish a document in the Federal Register announcing its determination and revising or removing this section accordingly.

Dated: November 13, 2025.
For the Nuclear Regulatory Commission.
Michael King,
Acting Executive Director for Operations.

[FR Doc. 2025-21784 Filed 12-2-25; 8:45 am]

BILLING CODE 7590-01-P